DEPARTMENT OF EDUCATION

National Institute on Disability and Rehabilitation Research (NIDRR)—Disability and Rehabilitation Research Projects and Centers Program—Rehabilitation Research and Training Centers (RRTCs)—Center on Employment Policy and Measurement

Catalog of Federal Domestic Assistance (CFDA) Number: 84.133B-4.

AGENCY: Office of Special Education and Rehabilitative Services, Department of Education.

ACTION: Notice of proposed priority.

SUMMARY: The Assistant Secretary for Special Education and Rehabilitative Services proposes a priority for the Disability and Rehabilitation Research Projects and Centers Program administered by NIDRR. Specifically, this notice proposes a priority for an RRTC on Employment Policy and Measurement. The Assistant Secretary may use this priority for competitions in fiscal year (FY) 2010 and later years. We take this action to focus research attention on areas of national need. We intend this priority to improve rehabilitation services and outcomes for individuals with disabilities.

DATES: We must receive your comments on or before June 14, 2010.

ADDRESSES: Address all comments about this notice to Marlene Spencer, U.S. Department of Education, 400 Maryland Avenue, SW., Room 5133, Potomac Center Plaza (PCP), Washington, DC 20202-2700.

If you prefer to send your comments by e-mail, use the following address: Marlene.Spencer@ed.gov. You must include the term “Proposed Priority for a Center on Employment Policy and Measurement” in the subject line of your electronic message.

FOR FURTHER INFORMATION CONTACT: Marlene Spencer. Telephone: (202) 245-7532 or by e-mail: Marlene.Spencer@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Invitation To Comment: We invite you to submit comments regarding this notice.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 5142, 550 12th Street, SW., PCP, Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Project and Centers Program is to plan and conduct research, demonstration projects, training, and related activities, including international activities, to develop methods, procedures and rehabilitation technology that maximize the full inclusion and integration into society, employment, independent living, family support, and economic and social self-sufficiency of individuals with disabilities, especially individuals with the most severe disabilities, and to improve the effectiveness of services authorized under the Rehabilitation Act of 1973, as amended.

RRTC Program

The purpose of the RRTC program is to improve the effectiveness of services authorized under the Rehabilitation Act through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must demonstrate in their applications how they will address, in whole or in part, the needs of individuals from minority backgrounds.

Program Authority: 29 U.S.C. 762(g) and 764(b)(2).

Applicable Program Regulations: 34 CFR part 350.

Proposed Priority: This notice contains one proposed priority.

Center on Employment Policy and Measurement

Background: Despite the enactment of legislation and the implementation of a variety of policy and program efforts at the Federal and State levels to improve employment outcomes for individuals with disabilities during the past 20 years, the rate of employment for individuals with disabilities remains substantially lower than the rate for those without disabilities. In December 2009, only 18.6 percent of persons with a disability were employed, compared to 63.3 percent of persons with no disability. (U.S. Department of Labor, 2009). This discrepancy in employment rates exists across all sociodemographic groups. Additionally, the median earnings for individuals with disabilities who are employed are less than $18,000 per year as compared to $28,000 per year earned by individuals without disabilities (Steinmetz, 2006; U.S. Census Bureau, 2006).

Research conducted by NIDRR grantees and others has shown that Federal and State government policies are critical factors that influence the employment status of individuals with disabilities. For instance, programs such as Social Security Disability Insurance (SSDI) and Supplemental Security Income (SSI) have a significant impact on employment rates for individuals with disabilities (Fraser et al., 2004; Goodman & Waidmann, 2003). SSDI and SSI recipients with disabilities are less likely to achieve gainful employment than individuals with disabilities who do not receive these benefits (Goodman & Waidmann, 2003).

The fear of losing eligibility for public health insurance is frequently identified as a major reason that people with disabilities work only limited hours or do not seek employment (Livermore & Goodman, 2009; Stapleton, O'Day, Livermore, & Imparato, 2006). Medicaid Buy-In programs may allow some individuals to maintain both employment and adequate insurance coverage. While some studies indicate that Medicaid Buy-In enrollees increase their average earnings after enrollment, there are not yet rigorous data that link participation in these Medicaid programs to an increase in employment (Livermore & Goodman, 2009).

Despite many efforts to better coordinate these and other Federal programs that affect employment outcomes for individuals with disabilities, “[t]here is no Federal system for disability that coordinates the many different disability programs and services, and no comprehensive lifetime picture of the needs of individuals with disabilities” (U.S. Government Accountability Office, 2005). Although many agencies evaluate their own programs, NIDRR's unique mission allows it to examine interactions among government programs and the collective impact of government policies and programs upon employment outcomes among individuals with disabilities.

As policies emerge and evolve, there is a need for continued research on the impact of government policies and programs as they shape the environment in which individuals with disabilities attempt to enter and stay in the workforce. This research would provide information to guide policymakers and other stakeholders, including individuals with disabilities and their advocates, as they work to develop and implement policies that will lead to positive employment outcomes.

NIDRR is also interested in conducting research to support further development of useful measures that will improve understanding of and communication regarding employment outcomes. Inconsistent measurement in employment research creates uncertainty about the validity of data on outcomes such as job retention, hours worked, wage rate and benefits, and opportunities for advancement (Loprest, 2007; Silverstein, Julnes, & Nolan, 2005; Interagency Committee on Disability Research, 2007; Hotchkiss, 2004). The use of common measures and metrics will enhance our ability to monitor the effectiveness of policies and programs intended to improve employment outcomes for individuals with disabilities.

We have reached a critical point in our ability to understand relationships between functional status, health status, access to support services and health care, and employment outcomes. This is because, for the first time in our history, three national datasets--the American Community Survey, the Current Population Survey, and the National Health Interview Survey ¹—will include the same seven questions to identify most people with disabilities.

¹ The U.S. Census Bureau conducts data collection for all three surveys. The agency sponsors are—

1. U.S. Department of Commerce, Census Bureau (American Community Survey);

2. U.S. Department of Health and Human Services, Centers for Disease Control and Prevention (National Health Interview Survey); and

3. U.S. Department of Labor, Bureau of Labor Statistics (Current Population Survey).

Each of these datasets includes a wealth of additional information that can further our understanding of the complex factors that facilitate or hinder successful employment outcomes. However, across the datasets there is variation in how specific components of employment outcomes are measured. Improved methods of linking data across these data sets would allow for more and better comparisons of employment-related outcome data such as wages and earnings, benefits, quality of employment, and job stability. Further research using these datasets, as well as research using State surveys and agency data sources such as the Rehabilitation Services Administration Case Service Report (RSA-911) will lead to a more comprehensive understanding of the problems in measuring employment outcomes for individuals with disabilities. This research can also inform the development of more effective means to evaluate the Vocational Rehabilitation State Grants Program, the Ticket to Work Program, and other Federal programs designed to improve employment rates and other employment outcomes for individuals with disabilities.

References:

Fraser, R., Vandergoot, D., Thomas, D., & Wagner, C. (2004). Employment outcomes research in vocational rehabilitation: Implications for Rehabilitation Counselor (RC) training. Journal of Vocational Rehabilitation, 20, 135-142.

Goodman, N. & Waidmann, T. (2003). “Social Security Disability Insurance and the recent decline in the employment rate of people with disabilities.” In Stapleton & Burkhauser (Eds.), The Decline in Employment of People with Disabilities: A Policy Puzzle. Kalamazoo, MI: W.E. Upjohn Institute for Employment Research, pp. 339-368.

Hotchkiss, J.L. (2004). Growing part-time employment among workers with disabilities: Marginalization or opportunity? Federal Reserve Bank of Atlanta Economic Review, Third Quarter 2004, pp. 25-40.

Interagency Committee on Disability Research. (2007). Employer perspectives on workers with disabilities: A national summit to develop a research agenda. Washington, DC: U.S. Department of Labor.

Livermore, G. & Goodman, N. (2009). A Review of Recent Evaluation Efforts Associated with Programs and Policies Designed to Promote the Employment of Adults with Disabilities. Ithaca, NY: Rehabilitation Research and Training Center on Employment Policy for Persons with Disabilities. See http://digitalcommons.ilr.cornell.edu/edicollect/1262.

Loprest, P. (2007). Strategic Assessment of the State of the Science in Research on Employment for Individuals with Disabilities. Final Report. Washington, DC: The Urban Institute. National Institute on Disability and Rehabilitation Research, U.S. Department of Education.

Silverstein, R., Julnes, G. & Nolan, R. (2005). What policymakers need and must demand from research regarding the employment rate of persons with disabilities. Behavioral Sciences and the Law, 23, 399-448.

Stapleton, D., O'Day, B., Livermore, G., and Imparato, A. (2006). Dismantling the Poverty Trap: Disability Policy for the 21st Century. Milbank Quarterly, 84(4), 701-732.

Steinmetz, E. (2006). Americans With Disabilities: 2002. Household Economic Studies Current Population Reports (pp.70-107). Washington, DC: U.S. Census Bureau. See http://www.census.gov/hhes/www/disability/sipp/disable02.html.

U.S. Census Bureau. (2006). American Community Survey table B1802: Selected Economic Characteristics for the Civilian Noninstitutionalized Population By Disability Status. Washington, DC: U.S. Census Bureau. See http://factfinder.census.gov/servlet/STTable?_bm=y&-qr_name=ACS_2006_EST_G00_S1802.

U.S. Department of Labor. (2009). Labor force statistics from the current population survey. Washington, DC: Bureau of Labor Statistics. U.S. Department of Labor. See http://www.bls.gov/cps/cpsdisability.htm.

U.S. Government Accountability Office. (2005). Federal Disability Assistance: Wide Array of Programs Needs to be Examined in Light of 21st Century Challenges. GAO-05-626. Washington, DC: U.S. Government Accountability Office. See http://www.gao.gov/new.items/d05626.pdf.

Proposed Priority:

The Assistant Secretary for Special Education and Rehabilitative Services proposes a priority for a Rehabilitation Research and Training Center (RRTC) on Employment Policy and Measurement. The RRTC must conduct research, knowledge translation, training, dissemination, and technical assistance to advance the understanding of how government policies, and changes in policies, affect employment outcomes of individuals with disabilities and to expand the capacity of government agencies, other policy groups, and consumer organizations to produce consistent data related to the employment of individuals with disabilities. Under this priority, the RRTC must contribute to the following outcomes:

(a) Increased knowledge of government policies and programs that affect employment outcomes for individuals with disabilities. The RRTC must contribute to this outcome by—

(1) Conducting rigorous research on the ways in which policies, changes in policies, and the interaction of policies such as those reflected in the Workforce Investment Act, including the Vocational Rehabilitation (VR) State Grants program; the Social Security Disability Insurance and Supplemental Security Income programs; health care initiatives; and other Federal or State programs affect employment rates for individuals with disabilities. Examples of such policy topics include, but are not limited to, the interaction between income support programs, poverty, disability, and employment success; the interaction between requirements for the VR State Grants and Ticket to Work programs; and the policy barriers to successful transition from youth to adulthood for young people with disabilities;

(2) Assessing existing research findings and other materials such as agency documents or data to produce timely policy briefs on emerging topics related to employment of individuals with disabilities; and

(3) Identifying statistical methods that can be used to interpret and compare data from different programs and data sets that provide information on the employment of individuals with disabilities.

(b) Improved capacity to measure the employment outcomes of individuals with disabilities. The RRTC must contribute to this outcome by—

(1) Identifying or developing a framework that includes common measures and metrics that capture the different types of employment outcomes for individuals with disabilities, including wages, benefits, employment retention and re-entry, and opportunities for advancement, and that can be used to analyze and compare data across different programs; and

(2) Validating the new measures and metrics by collecting new data or analyzing existing data to determine the properties of these measures and metrics and their sensitivity to factors that are hypothesized to affect employment among people with disabilities.

(c) Increased incorporation of research findings from the RRTC project into practice or policy. The RRTC must contribute to this outcome by—

(1) Collaborating with stakeholder groups to develop, evaluate, or implement strategies to increase utilization of research findings;

(2) Conducting training and dissemination activities to facilitate the utilization of research findings by employers, policymakers, and individuals with disabilities; and

(3) Collaborating and sharing information with other agencies across the Federal Government through mechanisms such as the Interagency Committee on Disability Research.

In addition, the RRTC must—

(1) Establish an Interagency Advisory Group that includes, but is not limited to, representatives from the Rehabilitation Services Administration (RSA), the Office of Disability Employment Policy, the Social Security Administration, the Centers for Medicare and Medicaid Services, and other agencies, as necessary, to ensure that the policy topics address the issues of most concern across key agencies and to guide development of the measures' framework;

(2) Collaborate with appropriate NIDRR-funded grantees, including knowledge translation grantees and grantees involved with employment research; and

(3) Collaborate with relevant RSA grantees and NIDRR-funded Disability and Business Technical Assistance Centers.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: Under Executive Order 12866, we have assessed the potential costs and benefits of this proposed regulatory action and have determined that it is not “significant” under the terms of that Executive order.

Intergovernmental Review: This program is not subject to Executive Order 12372 and the regulations in 34 CFR part 79.

Accessible Format: Individuals with disabilities can obtain this document in an accessible format (e.g., braille, large print, audiotape, or computer diskette) on request by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 6, 2010.
Alexa Posny,
Assistant Secretary for Special Education and Rehabilitative Services.

[FR Doc. 2010-11357 Filed 5-12-10; 8:45 am]

BILLING CODE 4000-01-P